DEPARTMENT OF COMMERCE

National Oceanic and Atmospheric Administration

RIN 0648-XC180

Fisheries of the South Atlantic and Gulf of Mexico; South Atlantic Fishery Management Council (Council) Scientific and Statistical Committee (SSC); South Atlantic Fishery Management Council Socio-Economic Sub-Panel (SEP); Public Meetings

AGENCY: National Marine Fisheries Service (NMFS), National Oceanic and Atmospheric Administration (NOAA), Commerce.

ACTION: Notice of revision to Council SSC meeting.

SUMMARY: The Council is adding consideration of additional analyses on the wreckfish population to the October 23-25, 2012 SSC meeting. The meeting will be held in Charleston, SC. see SUPPLEMENTARY INFORMATION.

DATES: The meetings will be held October 23—25, 2012. See SUPPLEMENTARY INFORMATION.

ADDRESSES: The meeting will be held at the Crowne Plaza, 4831 Tanger Outlet Boulevard, North Charleston SC; telephone: (877) 744-4422.

FOR FURTHER INFORMATION CONTACT: Kim Iverson, Public Information Officer, 4055 Faber Place Drive, Suite 201, North Charleston, SC 29405; telephone: (843) 571-4366; email: Kim.Iverson@safmc.net.

SUPPLEMENTARY INFORMATION: Under the Reauthorized Magnuson-Stevens Conservation and Management Act, the SSC is the body responsible for reviewing the Council's scientific materials. The original notice published in the Federal Register on September 25, 2012 (77 FR 58981). This notice is to add an agenda topic to an earlier noticed meeting. The added agenda topic would allow the SSC to consider additional analyses of the wreckfish population. All other previously-published information remains the same.

SSC Meeting Schedule

October 23, 2012, 8:30 a.m.-6 p.m.

October 24, 2012, 8:30 a.m.-6 p.m.

October 25, 2012, 8:30 a.m.-3 p.m.

Special Accommodations

These meetings are physically accessible to people with disabilities. Requests for sign language interpretation or other auxiliary aids should be directed to the Council office (see ADDRESSES) at least 3 business days prior to the meeting.

Dated: October 1, 2012.
Tracey L. Thompson,
Acting Deputy Director, Office of Sustainable Fisheries, National Marine Fisheries Service.

[FR Doc. 2012-24535 Filed 10-4-12; 8:45 am]

BILLING CODE 3510-22-P